DEPARTMENT OF ENERGY

Federal Energy Regulatory Commission

Combined Notice of Filings #2

Take notice that the Commission received the following electric rate filings:

Docket Numbers: ER12-845-001.

Applicants: Bishop Hill Interconnection LLC.

Description: Compliance Filing of Common Facilities Agreement to be effective 3/29/2012.

Filed Date: 4/5/12.

Accession Number: 20120405-5046.

Comments Due: 5 p.m. ET 4/26/12.

Docket Numbers: ER12-846-001.

Applicants: Bishop Hill Energy II LLC.

Description: Compliance Filing of Common Facilities Agreement to be effective 3/29/2012.

Filed Date: 4/5/12.

Accession Number: 20120405-5051.

Comments Due: 5 p.m. ET 4/26/12.

Docket Numbers: ER12-847-001.

Applicants: Bishop Hill Energy LLC.

Description: Compliance Filing of Amended Shared Facilities Agreement to be effective 3/29/2012.

Filed Date: 4/5/12.

Accession Number: 20120405-5043.

Comments Due: 5 p.m. ET 4/26/12.

Docket Numbers: ER12-848-001.

Applicants: Bishop Hill Energy II LLC.

Description: Cancellation of Shared Facilities Agreement Compliance Filing to be effective 3/29/2012.

Filed Date: 4/5/12.

Accession Number: 20120405-5052.

Comments Due: 5 p.m. ET 4/26/12.

Docket Numbers: ER12-849-001.

Applicants: Bishop Hill Energy III LLC.

Description: Cancellation of Shared Facilities Agreement Compliance Filing to be effective 3/29/2012.

Filed Date: 4/5/12.

Accession Number: 20120405-5044.

Comments Due: 5 p.m. ET 4/26/12.

Docket Numbers: ER12-850-001.

Applicants: Bishop Hill Interconnection LLC.

Description: Compliance Filing of Amended Shared Facilities Agreement to be effective 3/29/2012.

Filed Date: 4/5/12.

Accession Number: 20120405-5045.

Comments Due: 5 p.m. ET 4/26/12.

Docket Numbers: ER12-1418-001.

Applicants: TC Ravenswood, LLC.

Description: Rate Schedule to be effective 3/30/2012.

Filed Date: 4/5/12.

Accession Number: 20120405-5086.

Comments Due: 5 p.m. ET 4/12/12.

Docket Numbers: ER12-1447-000.

Applicants: Southern California Edison Company.

Description: Notice of Cancellation SGIA SERVAG SCE-GBU 17300 Slover Fontana Roof Top Solar to be effective 8/29/2011.

Filed Date: 4/5/12.

Accession Number: 20120405-5000.

Comments Due: 5 p.m. ET 4/26/12.

Docket Numbers: ER12-1448-000.

Applicants: Southern California Edison Company.

Description: Amended SGIA with SCE and Littlerock for Littlerock SGF1 Project to be effective 4/6/2012.

Filed Date: 4/5/12.

Accession Number: 20120405-5001.

Comments Due: 5 p.m. ET 4/26/12.

Docket Numbers: ER12-1449-000.

Applicants: NorthWestern Corporation.

Description: Notice of Cancellation of FERC Rate Schedule Nos. 545 and 550, Martinsdale LGIAs to be effective 5/23/2012.

Filed Date: 4/5/12.

Accession Number: 20120405-5082.

Comments Due: 5 p.m. ET 4/26/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2012.
Nathaniel J. Davis, Sr.,
Deputy Secretary.

[FR Doc. 2012-8956 Filed 4-12-12; 8:45 am]

BILLING CODE 6717-01-P